DEPARTMENT OF JUSTICE

Drug Enforcement Administration

[Docket No. DEA-617]

Importer of Controlled Substances Application: United States Pharmacopeial Convention

ACTION: Notice of application.

DATES: Registered bulk manufacturers of the affected basic class(es), and applicants therefore, may file written comments on or objections to the issuance of the proposed registration on or before May 20, 2020. Such persons may also file a written request for a hearing on the application on or before May 20, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on March 4, 2020, United States Pharmacopeial Convention, 12601 Twinbrook Parkway, Rockville, Maryland 20852, applied to be registered as an importer of the following basic class(es) of controlled substances:

Controlled substance | Drug code | Schedule
Methamphetamine | 1105 | II
Cathinone | 1235 | I
Phenmetrazine | 1631 | II
Methylphenidate | 1724 | II
Amobarbital | 2125 | II
Pentobarbital | 2270 | II
Secobarbital | 2315 | II
Glutethimide | 2550 | II
Methaqualone | 2565 | I
Lysergic acid diethylamide | 7315 | I
4-Methyl-2,5-dimethoxyamphetamine | 7395 | I
3,4-Methylenedioxyamphetamine | 7400 | I
4-Methoxyamphetamine | 7411 | I
Phencyclidine | 7471 | II
ANPP (4-Anilino-N-phenethyl-4-piperidine) | 8333 | II
Phenylacetone | 8501 | II
Alphaprodine | 9010 | II
Anileridine | 9020 | II
Cocaine | 9041 | II
Codeine-N-oxide | 9053 | I
Dihydrocodeine | 9120 | II
Difenoxin | 9168 | I
Diphenoxylate | 9170 | II
Heroin | 9200 | I
Levomethorphan | 9210 | II
Levorphanol | 9220 | II
Meperidine | 9230 | II
Dextropropoxyphene, bulk (non-dosage forms) | 9273 | II
Morphine-N-oxide | 9307 | I
Thebaine | 9333 | II
Norlevorphanol | 9634 | I
Oxymorphone | 9652 | II
Noroxymorphone | 9668 | II
Alfentanil | 9737 | II
Sufentanil | 9740 | II

The company plans to import the bulk control substances for distribution of analytical reference standards to its customers for analytical testing of raw materials.

William T. McDermott,
Assistant Administrator.

[FR Doc. 2020-08269 Filed 4-17-20; 8:45 am]

BILLING CODE 4410-09-P